DEPARTMENT OF THE INTERIOR

Bureau of Indian Affairs

Indian Gaming

AGENCY: Bureau of Indian Affairs, Interior.

ACTION: Notice of Approved Tribal-State Class III Gaming Compact.

SUMMARY: This notice publishes the Approved Compact between the Seminole Tribe of Florida and the State of Florida.

DATES: Effective Date: July 6, 2010.

FOR FURTHER INFORMATION CONTACT: Paula Hart, Director, Office of Indian Gaming, Office of the Deputy Assistant Secretary—Policy and Economic Development, Washington, DC 20240, (202) 219-4066.

SUPPLEMENTARY INFORMATION: Under section 11 of the Indian Gaming Regulatory Act of 1988 (IGRA) Public Law 100-497, 25 U.S.C. 2710, the Secretary of the Interior shall publish in the Federal Register notice of approved Tribal—State compacts for the purpose of engaging in Class III gaming activities on Indian lands. The compact authorizes the Seminole Tribe to operate slot machines, raffles and drawing, and any new game that may be authorized by Florida law for any person for any purpose, and banking or banked card games. The term of the compact is 20 years. The Assistant Secretary—Indian Affairs, Department of the Interior, through his delegated authority, is publishing notice that the Compact between the Seminole Tribe of Florida and the State of Florida is now in effect.

Dated: June 28, 2010.
Paul Tsosie,
Chief of Staff, Office of the Assistant Secretary—Indian Affairs.

[FR Doc. 2010-16213 Filed 7-2-10; 8:45 am]

BILLING CODE 4310-4N-P